DEPARTMENT OF HEALTH AND HUMAN SERVICES

Update to the Report on Residual Radioactive and Beryllium Contamination at Atomic Weapons Employer Facilities and Beryllium Vendor Facilities

AGENCY: National Institute for Occupational Safety and Health (NIOSH), Department of Health and Human Services (HHS).

ACTION: Notice.

SUMMARY: HHS gives notice of the release of an update to The Report on Residual Radioactive and Beryllium Contamination at Atomic Weapons Employer Facilities and Beryllium Vendor Facilities under the Energy Employees Occupational Illness Compensation Program Act of 2000 (EEOICPA), 42 U.S.C. 7484-7385.

This update is the third revision to the original report. The original report was issued in November, 2002; the first update was issued in October, 2003; and the second update was issued in December, 2006. The purpose of the original report and subsequent updates is to evaluate whether significant residual contamination remained at atomic weapons employer or beryllium vendor facilities after such facilities had concluded work for the Department of Energy (DOE) or its predecessor agencies.

NIOSH was required to submit the original report by section 3151(b) of the National Defense Authorization Act for Fiscal Year 2002, Public Law 107-107 (December 18, 2001), which amended EEOICPA. EEOICPA was amended again in section 3169 of the National Defense Authorization Act of Fiscal Year 2005, Public Law 108-375 (October 28, 2004) which directed NIOSH to update the residual contamination report by December, 2006.

This third revision to the original report has been prepared because the determination of residual contamination for several sites has changed since the issuance of the December 2006 version of the report. Specifically, this updated report is being submitted due to several recent changes in facility designations by DOE and the Department of Labor, and due to new information for certain facilities that was acquired and evaluated since the issuance of the December 2006 version of the report.

DOE uses the designations in this report to modify its publicly available list of EEOICPA-covered facilities, which includes the time periods determined by DOL to be covered under EEOICPA.

The entire report can be viewed on the Office of Compensation and Analysis Support Web site at http://www.cdc.gov/niosh/ocas/.

FOR FURTHER INFORMATION CONTACT: Stuart L. Hinnefeld, Interim Director, Office of Compensation Analysis and Support, National Institute for Occupational Safety and Health, 4676 Columbia Parkway, MS C-46, Cincinnati, OH 45226, Telephone 513-533-6800 (this is not a toll-free number).

Information requests can also be submitted by e-mail to OCAS@CDC.GOV.

John Howard,
Director, National Institute for Occupational Safety and Health.

[FR Doc. E9-26843 Filed 11-5-09; 8:45 am]

BILLING CODE 4160-17-P